INTERNATIONAL TRADE COMMISSION

[Investigation No. 332-485]

Canned Peaches, Pears, and Fruit Mixtures: Conditions of Competition Between U.S. and Principal Foreign Supplier Industries

AGENCY: United States International Trade Commission.

ACTION: Institution of investigation and scheduling of public hearing.

SUMMARY: Following receipt of a request on December 12, 2006, from the House Committee on Ways and Means, the Commission instituted investigation No. 332-485, Canned Peaches, Pears, and Fruit Mixtures: Conditions of Competition between U.S. and Principal Foreign Supplier Industries, under section 332(g) of the Tariff Act of 1939 (19 U.S.C. 1332(g)).

DATES: February 6, 2007: Date of institution.

June 28, 2007: Deadline for filing requests to appear at the public hearing.

July 2, 2007: Deadline for filing pre-hearing briefs and statements.

July 12, 2007, 9:30 am: Public hearing.

July 26, 2007: Deadline for written statements, including any post-hearing briefs.

December 12, 2007: Transmittal of report to the Committee on Ways and Means.

ADDRESSES: All Commission offices, including the Commission's hearing rooms, are located in the United States International Trade Commission Building, 500 E Street, SW., Washington, DC. All written submissions, including requests to appear at the hearing, statements, and briefs, should be addressed to the Secretary, United States International Trade Commission, 500 E Street, SW., Washington, DC 20436. The public record for this investigation may be viewed on the Commission's electronic docket (EDIS) at http://edis.usitc.gov.

FOR FURTHER INFORMATION CONTACT: Industry-specific information may be obtained from Douglas Newman, Co-Project Leader (202-205-3328; douglas.newman@usitc.gov), or Timothy McCarty, Co-Project Leader (202-205-3324; timothy.mccarty@usitc.gov), Office of Industries, United States International Trade Commission, Washington, DC, 20436. For information on the legal aspects of this investigation, contact William Gearhart of the Office of General Counsel (202-205-3091; wgearhart@usitc.gov). The media should contact Margaret O'Laughlin, Public Affairs Office (202-205-1819; margaret.olaughlin@usitc.gov). Hearing impaired individuals are advised that information on this matter can be obtained by contacting the TDD terminal on (202-205-1810). General information concerning the Commission may also be obtained by accessing its Internet server (http://www.usitc.gov). Persons with mobility impairments who will need special assistance in gaining access to the Commission should contact the Office of the Secretary at 202-205-2000.

SUPPLEMENTARY INFORMATION: As requested by the Committee, the Commission will conduct an investigation and provide a report on competitive conditions for certain canned fruit between U.S. and principal foreign supplier industries during the period 2003-05. Data and analysis will be provided for (1) Canned peaches, (2) canned pears, and (3) canned fruit mixtures, with any overlap among the industries clearly identified. In its report, the Commission will provide, to the extent possible, the following:

• An overview of the canned peach, canned pear, and canned fruit mixtures industries in the United States and major supplier countries (such as China, Greece, Spain, and Thailand), including production of fresh peaches and pears for processing, planted acreage and new plantings, processing volumes, processing capacity, and consumption;

• Information on U.S. and foreign supplier imports and exports of canned peaches, canned pears, and canned fruit mixtures, as well as the market segments in which U.S. imports are being sold (e.g., retail, food service sector, or other);

• A description of principal trade practices and government programs and measures affecting production of the products (especially in China, Greece, and Spain); and,

• A comparison of the strengths and weaknesses of these foreign competitor canned fruit industries and the U.S. industries (including industry structure, input cost and availability, processing technology, product innovation, government programs, exchange rates, and pricing and marketing regimes), and steps the respective industries are taking to increase their competitiveness.

As requested, the Commission will transmit its report to the Committee by December 12, 2007.

Public Hearing: A public hearing in connection with the investigation is scheduled to be held at the U.S. International Trade Commission Building, 500 E Street SW., Washington, DC beginning at 9:30 a.m. on July 12, 2007. All persons shall have the right to appear, by counsel or in person, to present information and to be heard. Requests to appear at the public hearing should be filed with the Secretary, United States International Trade Commission, 500 E Street SW., Washington, DC 20436, no later than 5:15 p.m., June 28, 2007. Any pre-hearing briefs (original and 14 copies) should be filed not later than 5:15 p.m., July 2, 2007. The deadline for filing post-hearing briefs or statements is 5:15 p.m., July 26, 2007. In the event that, as of the close of business on June 28, 2007, no witnesses are scheduled to appear at the hearing, the hearing will be canceled. Any person interested in attending the hearing as an observer or non-participant may call the Secretary (202-205-2000) after June 28, 2007, to determine whether the hearing will be held.

Written Statements: In lieu of or in addition to participating in the hearing, interested persons are invited to submit written statements concerning the investigation. All submissions should be addressed to Secretary, United States International Trade Commission, 500 E Street SW., Washington, DC 20436, and should be received no later than the close of business on July 26, 2007. All written submissions must conform with the provisions of section 201.8 of the Commission's Rules of Practice and Procedure (19 CFR 201.8). Section 201.8 of the rules require that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except as permitted by section 201.8 of the Commission's Rules (19 C.F.R. 201.8) (see Handbook for Electronic Filing Procedures, http://www.usitc.gov/secretary/fed_reg_notices/rules/documents/handbook_on_electronic_filing.pdf.

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties. The Committee has asked that the report that the Commission transmits not contain any confidential business information. Any confidential business information received by the Commission in this investigation and used in preparing the report will not be published in a manner that would reveal the operations of the firm supplying the information.

By order of the Commission.
Issued: February 7, 2007.
Marilyn R. Abbott,
Secretary to the Commission.

[FR Doc. E7-2363 Filed 2-12-07; 8:45 am]

BILLING CODE 7020-02-P